DEPARTMENT OF HOMELAND SECURITY

U.S. Citizenship and Immigration Services

8 CFR Part 214

[CIS No. 2369-05; Docket No. USCIS-2005-0022]

RIN 1615-ZA31

Short-Term Employment Authorization and Reduced Course Load for Certain F-1 Nonimmigrant Students Adversely Affected by Hurricane Katrina

AGENCY: U.S. Citizenship and Immigration Services, DHS.

ACTION: Notice of temporary rule suspension.

SUMMARY: This document informs the public of the suspension of certain regulatory requirements for a specific group of F-1 nonimmigrant students who were enrolled in academic institutions located in areas that have been adversely affected by Hurricane Katrina. F-1 students who are granted short-term employment authorization pursuant to this document will be deemed to be engaged in a “full course of study” for the duration of their employment authorization, provided such students satisfy the minimum course load requirement set forth in this document.

DATES: This document is effective November 25, 2005, and will remain in effect until February 1, 2006.

FOR FURTHER INFORMATION CONTACT: Alanna Ow, Adjudications Officer, Office of Program and Regulations Development, U.S. Citizenship and Immigration Services, Department of Homeland Security, 111 Massachusetts Avenue NW, 3rd Floor, Washington, DC 20529, telephone (202) 272-8410.

SUPPLEMENTARY INFORMATION:

What action is the Department of Homeland Security (DHS) taking under this Notice?

The Secretary of Homeland Security is exercising his authority under 8 CFR 214.2(f)(9) to temporarily suspend the applicability of certain requirements governing on-campus and off-campus employment. F-1 students, who are granted employment authorization pursuant to this Notice, will be deemed to be engaged in a “full course of study” for the duration of their employment authorization, provided such students satisfy the minimum course load requirement set forth in this Notice. See 8 CFR 214.2(f)(6)(F).

Who is covered by this Notice?

This Notice applies exclusively to nonimmigrant aliens admitted to the United States in F-1 classification for duration of status under section 101(a)(15)(F)(i) of the Immigration and Nationality Act (Act), who: (1) On August 29, 2005, were lawfully present in the United States in F-1 status and enrolled in an institution, which is approved by DHS for enrollment of F-1 students and located in an area adversely affected by Hurricane Katrina; (2) are currently maintaining valid F-1 status; and (3) are experiencing severe economic hardship as a direct result of Hurricane Katrina. This Notice also applies to nonimmigrant aliens admitted to the United States in F-2 classification under section 101(a)(15)(F)(ii) of the Act, who are the dependents (spouse or minor children) of F-1 students covered by this Notice, provided that the F-1 student continues to maintain F-1 status.

F-1 students otherwise covered by this Notice, who transfer to other academic institutions, which are approved by DHS for enrollment of F-1 students, remain eligible for the relief provided by means of this Notice.

Why is DHS taking this action?

Hurricane Katrina caused loss of life, caused extensive damage to property, and has disrupted normal activities in the states of Alabama, Louisiana, and Mississippi. Certain academic institutions that are located in the affected areas are consequently unable to operate normally, or at all, during the current academic term. Approximately 5,500 F-1 students were enrolled in academic institutions located in the areas adversely affected by Hurricane Katrina. As a result of this catastrophic natural disaster, many of these F-1 students are suffering severe economic hardship resulting from, among other things, costs incurred to replace lost or damaged possessions, and/or to transfer to other academic institutions. Moreover, many of these F-1 students are experiencing difficulty in satisfying the normal regulatory requirements for maintaining valid F-1 status, which include the pursuit of a “full course of study” pursuant to 8 CFR 214.2(f)(6).

DHS is taking action to provide relief to these F-1 students so they may obtain short-term employment authorization, and consequently reduce their course load.

Which academic institutions are covered by this Notice?

This Notice lists the specific campuses of academic institutions, which are approved by DHS for enrollment of F-1 students and located in the areas adversely affected by Hurricane Katrina. In the event that DHS, after the publication of this Notice, identifies other academic institutions, which are approved by DHS for enrollment of F-1 students and located in areas adversely affected by Hurricane Katrina, DHS will extend the relief authorized under this Notice to eligible F-1 students who were enrolled in those academic institutions on August 29, 2005.

School name | Campus name | City | State | Zip code
Archdiocese of New Orleans | Academy of the Sacred Heart | New Orleans | LA | 70115
Archdiocese of New Orleans | Christian Brothers School | New Orleans | LA | 70124
Archdiocese of New Orleans | Henriette DeLille | New Orleans | LA | 70126
Archdiocese of New Orleans | Holy Cross | New Orleans | LA | 70117
Archdiocese of New Orleans | Holy Ghost | New Orleans | LA | 70115
Archdiocese of New Orleans | Holy Name of Jesus | New Orleans | LA | 70118
Archdiocese of New Orleans | Holy Rosary Academy | New Orleans | LA | 70119
Archdiocese of New Orleans | House of the Holy Family | New Orleans | LA | 70126
Archdiocese of New Orleans | Immaculate Heart of Mary | New Orleans | LA | 70126
Archdiocese of New Orleans | Marian Central Catholic Middle School | New Orleans | LA | 70126
Archdiocese of New Orleans | Our Lady of Lourdes | New Orleans | LA | 70115
Archdiocese of New Orleans | Resurrection of Our Lord | New Orleans | LA | 70127
Archdiocese of New Orleans | St. Alphonsus | New Orleans | LA | 70130
Archdiocese of New Orleans | St. Anthony of Padua | New Orleans | LA | 70119
Archdiocese of New Orleans | St. Benedict the Moor | New Orleans | LA | 70126
Archdiocese of New Orleans | St. David | New Orleans | LA | 70117
Archdiocese of New Orleans | St. Dominic | New Orleans | LA | 70124
Archdiocese of New Orleans | St. Frances Xavier Cabrini | New Orleans | LA | 70122
Archdiocese of New Orleans | St. Joan of Arc | New Orleans | LA | 70118
Archdiocese of New Orleans | St. Joseph Central Catholic Elementary | New Orleans | LA | 70122
Archdiocese of New Orleans | St. Leo the Great | New Orleans | LA | 70119
Archdiocese of New Orleans | St. Mary of the Angels | New Orleans | LA | 70117
Archdiocese of New Orleans | St. Paul the Apostle | New Orleans | LA | 70126
Archdiocese of New Orleans | St. Pius X | New Orleans | LA | 70124
Archdiocese of New Orleans | St. Raymond | New Orleans | LA | 70122
Archdiocese of New Orleans | St. Stephen | New Orleans | LA | 70115
Archdiocese of New Orleans | Stuart Hall School for Boys | New Orleans | LA | 70118
Archdiocese of New Orleans | Ursuline Academy | New Orleans | LA | 70118
Archdiocese of New Orleans | All Saints | New Orleans | LA | 70114
Archdiocese of New Orleans | Holy Name of Mary | New Orleans | LA | 70114
Archdiocese of New Orleans | Our Lady of Divine Providence | Metairie | LA | 70003
Archdiocese of New Orleans | Our Lady of Perpetual Help | Kenner | LA | 70062
Archdiocese of New Orleans | St. Angela Merici | Metairie | LA | 70002
Archdiocese of New Orleans | St. Benilde | Metairie | LA | 70001
Archdiocese of New Orleans | St. Catherine of Siena | Metairie | LA | 70005
Archdiocese of New Orleans | St. Christopher | Metairie | LA | 70001
Archdiocese of New Orleans | St. Clement of Rome | Metairie | LA | 70002
Archdiocese of New Orleans | St. Edward the Confessor | Metairie | LA | 70001
Archdiocese of New Orleans | St. Elizabeth Ann Seton | Kenner | LA | 70065
Archdiocese of New Orleans | St. Francis Xavier | Metairie | LA | 70005
Archdiocese of New Orleans | St. Louis King of France | Metairie | LA | 70005
Archdiocese of New Orleans | St. Mary Magdalen | Metairie | LA | 70003
Archdiocese of New Orleans | St. Matthew the Apostle | River Ridge | LA | 70123
Archdiocese of New Orleans | St. Philip Neri | Metairie | LA | 70003
Archdiocese of New Orleans | St. Rita | Harahan | LA | 70123
Archdiocese of New Orleans | Immaculate Conception | Marrero | LA | 70072
Archdiocese of New Orleans | Our Lady of Prompt Succor | Westwego | LA | 70094
Archdiocese of New Orleans | St. Anthony | Gretna | LA | 70053
Archdiocese of New Orleans | St. Cletus | Gretna | LA | 70053
Archdiocese of New Orleans | St. Joseph the Worker | Marrero | LA | 70072
Archdiocese of New Orleans | St. Rosalie | Harvey | LA | 70058
Archdiocese of New Orleans | Visitation of Our Lady | Marrero | LA | 70072
Archdiocese of New Orleans | Our Lady of Perpetual Help | Belle Chasse | LA | 70037
Archdiocese of New Orleans | Our Lady of Prompt Succor | Chalmette | LA | 70043
Archdiocese of New Orleans | St. Louise DeMarillac | Arabi | LA | 70032
Archdiocese of New Orleans | St. Mark | Chalmette | LA | 70043
Archdiocese of New Orleans | St. Robert Bellarmine | Arabi | LA | 70032
Archdiocese of New Orleans | Sacred Heart of Jesus | Noco | LA | 70079
Archdiocese of New Orleans | St. Charles Borromeo | Destrechan | LA | 70047
Archdiocese of New Orleans | Ascension of Our Lord | LaPlace | LA | 70068
Archdiocese of New Orleans | Our Lady of Grace | Reserve | LA | 70084
Archdiocese of New Orleans | St. Joan of Arc | LaPlace | LA | 70068
Archdiocese of New Orleans | St. Peter | Reserve | LA | 70084
Archdiocese of New Orleans | Mary, Queen of Peace | Mandeville | LA | 70471
Archdiocese of New Orleans | Our Lady of Lourdes | Slidell | LA | 70458
Archdiocese of New Orleans | St. Margaret Mary | Slidell | LA | 70458
Archdiocese of New Orleans | St. Peter | Covington | LA | 70433
Archdiocese of New Orleans | Annunciation | Bogalusa | LA | 70427
Archdiocese of New Orleans | Brother Martin | New Orleans | LA | 70122
Archdiocese of New Orleans | Cabrini | New Orleans | LA | 70119
Archdiocese of New Orleans | DeLaSalle | New Orleans | LA | 70115
Archdiocese of New Orleans | Jesuit | New Orleans | LA | 70119
Archdiocese of New Orleans | Mount Carmel Academy | New Orleans | LA | 70124
Archdiocese of New Orleans | Redeemer-Seton | New Orleans | LA | 70122
Archdiocese of New Orleans | St. Augustine | New Orleans | LA | 70119
Archdiocese of New Orleans | St. Gerard Majella Alternative School | New Orleans | LA | 70122
Archdiocese of New Orleans | St. Mary's Academy | New Orleans | LA | 70126
Archdiocese of New Orleans | Xavier University Prep | New Orleans | LA | 70115
Archdiocese of New Orleans | Archbishop Chapelle | Metairie | LA | 70003
Archdiocese of New Orleans | Archbishop Rummel | Metairie | LA | 70001
Archdiocese of New Orleans | Archbishop Blenk | Gretna | LA | 70053
Archdiocese of New Orleans | Archbishop Shaw | Marrero | LA | 70072
Archdiocese of New Orleans | Immaculata | Marrero | LA | 70072
Archdiocese of New Orleans | Archbishop Hannan | Meraux | LA | 70075
Archdiocese of New Orleans | St. Charles Catholic | LaPlace | LA | 70068
Archdiocese of New Orleans | Pope John Paul II | Slidell | LA | 70461
Archdiocese of New Orleans | The Saint Paul's School | Covington | LA | 70433
Archdiocese of New Orleans | St. Scholastica Academy | Covington | LA | 70433
Bass Memorial Academy | Bass Memorial Academy | Lumberton | MS | 39455
Delgado Community College | Delgado Community College | New Orleans | LA | 70119
Dillard University | Dillard University | New Orleans | LA | 70122
East Central Community College | East Central Community College | Decatur | MS | 39327
East Mississippi Community College | Scooba Campus | Scooba | MS | 39358
Ecole Classique | Ecole Classique | New Orleans | LA | 70112
English Language Center | University of South Alabama | Mobile | AL | 36688
Faulkner State Community College | Faulkner State Community College | Bay Minette | AL | 36507
Faulkner University | Faulkner University at Mobile | Mobile | AL | 36609
John Curtis Christian School | John Curtis Christian School | River Ridge | LA | 70123
Kaplan Test Prep, a division of Kaplan, Inc | Kaplan Test Prep—New Orleans, LA | New Orleans | LA | 70118
Louisiana State University Health Sciences Center | Louisiana State University Health Sciences Center | New Orleans | LA | 70006
Loyola University New Orleans | Loyola University New Orleans | New Orleans | LA | 70118
Lutheran High School | Lutheran High School | Metairie | LA | 70002
Meridian Community College | Meridian Community College | Meridian | MS | 39307
Metairie Park Country Day School | Metairie Park Country Day School | Metairie | LA | 70005
Mississippi Gulf Coast Community College | Perkinston Campus | Perkinston | MS | 39573
Mississippi Gulf Coast Community College | Jefferson Davis Campus | Gulfport | MS | 39507
Mississippi Gulf Coast Community College | Jackson County Campus | Gautier | MS | 39553
Mobile County Public Schools | Division of Student Support Service | Mobile | AL | 36602
Mobile County Public Schools | Baker High | Mobile | AL | 36608
Mobile County Public Schools | Blount High | Prichard | AL | 36610
Mobile County Public Schools | Bryant High | Irvington | AL | 36544
Mobile County Public Schools | Citronelle High | Citronelle | AL | 36522
Mobile County Public Schools | Davidson High | Mobile | AL | 36609
Mobile County Public Schools | Montgomery High | Semmes | AL | 36575
Mobile County Public Schools | Murphy High | Mobile | Al | 36606
Mobile County Public Schools | Rain High | Mobile | AL | 36605
Mobile County Public Schools | Satsuma High | Satsuma | AL | 36572
Mobile County Public Schools | Shaw High | Mobile | Al | 36608
Mobile County Public Schools | Theodore High | Theodore | AL | 36582
Mobile County Public Schools | Vigor High | Prichard | AL | 36610
Mobile County Public Schools | Williamson High | Mobile | AL | 36605
Modern languages Institute | Modern Languages Institute | New Orleans | LA | 70130
New Orleans Baptist Theological Seminary | New Orleans Baptist Theological Seminary | New Orleans | LA | 70126
Nicholls State University | Nicholls State University | Thibodaux | LA | 70301
Notre Dame Seminary | Notre Dame Seminary | New Orleans | LA | 70118
Nunez Community College | Nunez Community College | Chalmette | LA | 70043
Our Lady Holy Cross College | Our Lady Holy Cross College | New Orleans | LA | 70131
Picayune School District | Picayune Memorial High School | Picayune | MS | 39466
Remington College | Remington College | Metairie | LA | 70005
Reserve Christian School | Reserve Christian School | Reserve | LA | 70084
Ridgewood Preparatory School | Ridgewood Preparatory School | Metairie | LA | 70001
Riverside Academy Corporation | Riverside Academy | Reserve | LA | 70084
Saint Joseph Seminary College | St. Benedict | St. Benedict | LA | 70457
School of Urban Missions | New Orleans School of Urban Missions | Gretna | LA | 70053
Southeastern Baptist College | Southeastern Baptist College | Laurel | MS | 39440
Southeastern Louisiana University | Southeastern Louisiana University | Hammond | LA | 70402
Southern University at New Orleans | Southern University at New Orleans | New Orleans | LA | 70126
Spring Hill College | Spring Hill College | Mobile | LA | 36608
St. Paul's Episcopal School | St. Paul's Episcopal School | Mobile | LA | 36608
St. Stanislaus College Prep | St. Stanislaus College Prep | Bay St. Louis | MS | 39520
St. Stanislaus College Prep | Mercy Cross High School | Biloxi | MS | 39530
St. Stanislaus College Prep | St. John High School | Gulfport | MS | 39501
St. Stanislaus College Prep | Resurrection Catholic School | Pascagoula | MS | 39567
St. Stanislaus College Prep | Nativity, B. V. M. | Biloxi | MS | 39530
St. Stanislaus College Prep | Sacred Heart | Hattiesburg | MS | 39401
The University of Southern Mississippi | Hattiesburg Campus | Hattiesburg | MS | 39406
The University of Southern Mississippi | English Language Institute | Hattiesburg | MS | 39406
Top Garden School | Top Garden School | Irvington | AL | 36544
Tulane University | Tulane University | New Orleans | LA | 70118
United States Sports Academy | United States Sports Academy | Daphne | AL | 36526
University of Mobile | University of Mobile | Mobile | AL | 36613
University of New Orleans | University of New Orleans | New Orleans | LA | 70148
Unviersity of New Orleans | UNO Intensive English Language Program | New Orleans | LA | 70148
University of South Alabama | University of South Alabama | Mobile | AL | 36688
William Carey College | William Carey College | Hattiesburg | MS | 39401
Xavier University of Louisiana | Xavier University of Louisiana | New Orleans | LA | 70125

What regulatory requirements in 8 CFR 214.2(f)(9) does this Notice temporarily suspend?

1. On-Campus Employment

For F-1 students covered by this Notice, the Secretary of Homeland Security is suspending temporarily the applicability of the requirement in 8 CFR 214.2(f)(9)(i) that limits an F-1 student to no more than 20 hours per week of on-campus employment when school is in session.

2. Off-Campus Employment

For F-1 students covered by this Notice, the Secretary of Homeland Security is suspending temporarily the applicability of the following regulatory requirements: (a) The requirement in 8 CFR 214.2(f)(9)(ii)(A), that limits an F-1 student to no more than 20 hours per week of off-campus employment when school is in session; (b) the requirement in 8 CFR 214.2(f)(9)(ii)(D)(1), that requires a student to be in F-1 status for one full academic year in order to be eligible for off-campus employment; and (c) the requirement in 8 CFR 214.2(f)(9)(ii)(D)(3), that requires an F-1 student to demonstrate that acceptance of employment will not interfere with the student's carrying a full course of study.

Will F-1 students who are granted employment authorization pursuant to this Notice be authorized to reduce their normal course load?

Yes. Pursuant to 8 CFR 214.2(f)(6)(i)(F), F-1 students, who are granted employment authorization pursuant to this Notice, will be deemed to be engaged in a “full course of study” for the duration of their employment authorization, provided such students satisfy the minimum course load requirement set forth in this Notice.

What is the minimum course load requirement set forth in this Notice?

Pursuant to 8 CFR 214.2(f)(5)(v), undergraduate level F-1 students who are granted employment authorization pursuant to this Notice must remain registered for a minimum of 6 semester/quarter hours of instruction per academic term, and graduate level F-1 students who are granted employment authorization pursuant to this Notice must remain registered for a minimum of 3 semester/quarter hours of instruction per academic term. In addition, pursuant to 8 CFR 214.2(f)(6)(i)(G), F-1 students granted employment authorization pursuant to this Notice, both at the undergraduate level and the graduate level, may count the equivalent of one class or three credits per semester/quarter of on-line or distance education toward satisfying this minimum course load requirement.

How may F-1 students covered by this Notice obtain employment authorization pursuant to this Notice?

1. On-Campus Employment

An F-1 student covered by this Notice, who seeks to pursue on-campus employment pursuant to this Notice, must demonstrate to the Designated School Official (DSO) at the academic institution where the F-1 student currently is enrolled that such employment is necessary to avoid severe economic hardship resulting from Hurricane Katrina. See 8 CFR 214.2(f)(9)(i). The DSO should sign, date, and include the following notation in the student employment box on page 3 of Form I-20: “Approved for more than 20 hours per week of on-campus employment until February 1, 2006, pursuant to Hurricane Katrina Special Student Relief.” By making this notation, the DSO certifies that the F-1 student is covered by this Notice.

2. Off-Campus Employment

An F-1 student covered by this Notice, who seeks to pursue off-campus employment pursuant to this Notice, must file a complete Form I-765, Application for Employment Authorization, including required supporting documentation, with the USCIS Texas Service Center at:

U.S. Citizenship and Immigration Services, Texas Service Center, P.O. Box 853062, Mesquite, TX 75815-3062.

The front of the envelope, on the bottom right-hand side, should include the following notation: “HURRICANE KATRINA SPECIAL STUDENT RELIEF.” Failure to include this notation may result in significant processing delays.

An application package is complete if it contains: (1) A properly completed Form I-765, Application for Employment Authorization, with the required fee or, if the F-1 student believes he or she is eligible for a waiver of this fee, a written affidavit or unsworn declaration, which requests waiver of the fee under 8 CFR 103.7(c) and explains the reasons why the student is unable to pay the prescribed fee, and (2) Form I-20 with a recommendation for off-campus employment from the DSO at the academic institution where the F-1 student is currently enrolled. See 8 CFR 214.2(f)(9)(ii)(D). The DSO should sign, date, and include the following notation in the student employment box on page 3 of Form I-20: “Approved for more than 20 hours per week of off-campus employment until February 1, 2006, pursuant to Hurricane Katrina Special Student Relief.” By making this notation, the DSO certifies that the F-1 student is covered by this Notice.

If U.S. Citizenship and Immigration Services (USCIS) approves the F-1 student's Form I-765, Application for Employment Authorization, USCIS will send the student a Form I-766, Employment Authorization Document, to evidence his or her employment authorization. The Form I-766 will contain an expiration date that will not extend beyond February 1, 2006. If USCIS denies the F-1 student's Form I-765, Application for Employment Authorization, USCIS will notify the student of the decision, and the reason(s) for the denial.

Is there a cut-off date for the filing of a Form I-765, Application for Employment Authorization, pursuant to this Notice?

No. DHS has not established a cut-off date for the filing of a Form I-765, Application for Employment Authorization, pursuant to this Notice. Any benefits granted by means of this Notice, however, will expire no later than February 1, 2006. While USCIS will exercise its best efforts to process such applications in as prompt a manner as possible, F-1 students applying for employment authorization pursuant to this Notice should bear in mind this expiration date when submitting their Forms I-765, Applications for Employment Authorization.

Will F-2 dependents (spouse or minor children) of F-1 students covered by this Notice be eligible to apply for employment authorization?

No. Pursuant to 8 CFR 214.2(f)(15)(i), an F-2 dependent (spouse or minor children) of an F-1 student, may not accept employment.

Will F-1 students covered by this Notice be required to apply for reinstatement after February 1, 2006?

No. F-1 students, who are granted employment authorization pursuant to this Notice, will be deemed to be engaged in a “full course of study” for the duration of their employment authorization, provided such undergraduate level F-1 students remain registered for a minimum of 6 semester/quarter hours of instruction per academic term, and such graduate level F-1 students remain registered for a minimum of 3 semester/quarter hours of instruction per academic term. See 8 CFR 214.2(f)(5)(v). Such F-1 students, therefore, would not be required to apply for reinstatement under 8 CFR 214.2(f)(16) if they are otherwise maintaining F-1 status.

How long will this Notice remain in effect?

This Notice grants temporary relief to a specific group of F-1 students for the estimated length of the current academic term. As such, this Notice will remain in effect until February 1, 2006. During this period, DHS will continue to monitor the adverse impact of Hurricane Katrina in the affected areas to determine if modification or rescission of these special provisions is warranted. Should these special provisions be modified or rescinded prior to February 1, 2006, DHS will announce such changes in the Federal Register.

Paperwork Reduction Act

The information collection requirements contained in this rule have been cleared by the Office of Management and Budget (OMB) under the provisions of the Paperwork Reduction Act. Clearance numbers for these collections are contained in 8 CFR 299.5, Display Control Numbers, and are noted herein. Form I-765, Application for Employment Authorization, OMB Control Number 1615-0040.

Dated: November 17, 2005.
Michael Chertoff,
Secretary.

[FR Doc. 05-23309 Filed 11-23-05; 8:45 am]

BILLING CODE 4410-10-P